FEDERAL EMERGENCY MANAGEMENT AGENCY

44 CFR Part 65

Changes in Flood Elevation Determinations

AGENCY: Federal Emergency Management Agency, (FEMA).

ACTION: Final rule.

SUMMARY: Modified Base (1-percent-annual-chance) Flood Elevations (BFEs) are finalized for the communities listed below. These modified elevations will be used to calculate flood insurance premium rates for new buildings and their contents.

EFFECTIVE DATES: The effective dates for these modified BFEs are indicated on the table below and revise the Flood Insurance Rate Maps (FIRMs) in effect for the listed communities prior to this date.

ADDRESSES: The modified BFEs for each community are available for inspection at the office of the Chief Executive Officer of each community. The respective addresses are listed in the table below.

FOR FURTHER INFORMATION CONTACT: Matthew B. Miller, P.E., Chief, Hazards Study Branch, Hazards, Mapping and Risk Assessment Division, FEMA, 500 C Street, SW., Washington, DC 20472, (202) 646-3461 or (e-mail) matt.miller@fema.gov.

SUPPLEMENTARY INFORMATION: FEMA makes the final determinations listed below of the final determinations of modified BFEs for each community listed. These modified elevations have been published in newspapers of local circulation and ninety (90) days have elapsed since that publication. The Acting Administrator, Federal Insurance and Mitigation Administration, has resolved any appeals resulting from this notification.

The modified BFEs are not listed for each community in this notice. However, this rule includes the address of the Chief Executive Officer of the community where the modified BFE determinations are available for inspection.

The modifications are made pursuant to Section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act

This rule is categorically excluded from the requirements of 44 CFR part 10, Environmental Consideration. No environmental impact assessment has been prepared.

Regulatory Flexibility Act

The Acting Administrator, Federal Insurance and Mitigation Administration, certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and County | Location | Dates and names of newspaper where notice was published | Chief executive officer of community | Effective date of modification | Community number
Illinois: Lake (FEMA Docket No. 7602) | City of Waukegan | March 22, 2001, March 29, 2001, Chicago Tribune | The Honorable Bill Durkin, Mayor, City of Waukegan, 106 North Utica, Waukegan, Illinois 60085 | June 29, 2001 | 170397
Kansas: Johnson (FEMA Docket No. 7602) | City of Shawnee | February 8, 2001, February 15, 2001, Topeka Capital-Journal | The Honorable Jim Allen, Mayor, City of Shawnee, City Hall, 11110 Johnson Drive, Shawnee, Kansas 66203 | January 18, 2001 | 200177
Texas:
Potter and Randall (FEMA Docket No. 7602) | City of Amarillo | February 1, 2001, February 8, 2001, Amarillo Daily News | The Honorable Kel Seliger, Mayor, City of Amarillo, P.O. Box 1971, Amarillo, Texas 79105 | May 10, 2001 | 480529
Collin (FEMA Docket No. 7602) | Unincorporated Areas | January 18, 2001, January 25, 2001, Plano Star Courier | Mr. William J. Roberts, Attn: Mr. Ruben E. Delgado, 210 South McDonald, McKinney, Texas 75069 | April 26, 2001 | 480130
Denton (FEMA Docket No. 7602) | City of Denton | March 23, 2001, March 30, 2001, Denton Record Chronicle | The Honorable Euline Brock, Mayor, City of Denton, 215 East McKinney Street, Denton, Texas 76201 | March 9, 2001 | 480194
Denton (FEMA Docket No. 7602) | Unincorporated Areas | March 23, 2001, March 30, 2001, Denton Record Chronicle | The Honorable Kirk Wilson, Denton County Judge, Courthouse-on-the-Square, 110 West Hickory Street, Denton, Texas 76201-0000 | March 9, 2001 | 480774
Tarrant (FEMA Docket No. 7602) | City of Euless | February 22, 2001, March 1, 2001, Fort Worth Star-Telegram | The Honorable Mary Lib Saleh, Mayor, City of Euless, 201 North Ector Drive, Euless, Texas 76039 | January 25, 2001 | 480593
Dallas (FEMA Docket No. 7602) | City of Irving | January 18, 2001, January 25, 2001, Irving News | The Honorable Joe H. Putnam, Mayor, City of Irving, P.O. Box 152288, Irving, Texas 75060-0000 | April 26, 2001 | 480180
Dallas (FEMA Docket No. 7602) | City of Irving | March 15, 2001, March 22, 2001, Irving News | The Honorable Bill Durkin, Mayor, City of Waukegan, P.O. Box 152288, Irving, Texas 75060 | February 20, 2001 | 480180
Montgomery (FEMA Docket No. 7602) | Unincorporated Areas | March 23, 2001, March 30, 2001, Conroe Courier | The Honorable Alan B. Sadler, Montgomery County Judge, 300 N. Thompson Street, Suite 210, Conroe, Texas 77301 | June 29, 2001 | 480483
Collin (FEMA Docket No. 7602) | City of Plano | January 18, 2001, January 25, 2001, Plano Star Courier | The Honorable Jeran Akers, Mayor, City of Plano, P.O. Box 860358, Plano, Texas 75086-0358 | April 26, 2001 | 480140

(Catalog of Federal Domestic Assistance No. 83.100, “Flood Insurance.”)
Dated: August 10, 2001.
Robert F. Shea,
Acting Administrator, Federal Insurance and Mitigation Administration.

[FR Doc. 01-20724 Filed 8-16-01; 8:45 am]

BILLING CODE 6718-04-P